DEPARTMENT OF HOMELAND SECURITY

Federal Emergency Management Agency

Agency Information Collection Activities: Submission for OMB Review; Comment Request

AGENCY: Federal Emergency Management Agency, Department of Homeland Security.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: Metropolitan Firefighter Demographics Study.

OMB Number: 1660-NW17.

Abstract: Data products and reports exist that contain fragmented or estimated information about firefighter demographics, but there is no single reference source today that aggregates this data to provide an accurate profile of firefighters on a per department basis. The USFA ¹ receives many requests for information related to firefighters, including gender, race and ethnicity, as well as the number of firefighters holding chief officer and line officer positions. The USFA is working to identify the demographic makeup of metropolitan fire departments in the United States to provide input for program planning and to inform stakeholders of the demographic composition of firefighters. The database will be used by USFA to guide programmatic decisions and provide the Fire Service and the public with information about firefighter demographics at an aggregate level. Fire departments are able to complete the demographic firefighter questionnaire by filling out a paper form and faxing the completed form, or sending it in a return envelope.

¹ The USFA is currently being transferred to the newly created Preparedness Directorate of the Department of Homeland Security. During this transition FEMA, also part of the Department of Homeland Security, will continue to support this program as the new Directorate stands up. Ultimately this data collection will be transferred to the Preparedness Directorate.

Affected Public: Federal, State, local government, and career fire departments.

Number of Respondents: 115.

Estimated Time per Respondent: 20 minutes (.33 hour).

Estimated Total Annual Burden Hours: 39 hours.

Frequency of Response: Once.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before September 8, 2006.

FOR FURTHER INFORMATION CONTACT: Requests for additional information or copies of the information collection should be made to Chief, Records Management, FEMA, 500 C Street, SW., Room 316, Washington, DC 20472, facsimile number (202) 646-3347, or e-mail address FEMA-Information-Collections@dhs.gov.

Dated: August 1, 2006.
John Sharetts-Sullivan,
Chief, Records Management & Privacy, Information Resources Management Branch, Information Technology Services Division.

[FR Doc. E6-12910 Filed 8-8-06; 8:45 am]

BILLING CODE 9110-17-P